DEPARTMENT OF ENERGY

Federal Energy Regulatory Commission

[Docket No. RP02-83-003]

Tennessee Gas Pipeline Company; Notice of Compliance Filing

April 2, 2002.

Take notice that on March 28, 2002, Tennessee Gas Pipeline Company (Tennessee), tendered for filing as part of its FERC Gas Tariff, Fifth Revised Volume No. 1, Substitute Second Revised Sheet No. 23F, with an effective date of January 1, 2002.

Tennessee states that on February 22, 2002, Tennessee filed Second Revised Sheet No. 23F to reflect the revised funding surcharges for the Gas Research Institute (GRI) for Rate Schedule FT-IL. The Commission's letter order dated March 19, 2002 in this docket (March 19 Letter Order) accepted the tariff sheet effective January 1, 2002, subject to Tennessee filing a substitute tariff sheet to revise the GRI surcharge in footnote No. 1 for firm transportation with a load factor less than 50 percent. Tennessee states that it is submitting the proposed substitute tariff sheet in compliance with the March 19 Letter Order.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See 18 CFR 385.2001(a)(1)(iii) and the instructions on the Commission's web site under the “e-Filing” link.

Magalie R. Salas,
Secretary.

[FR Doc. 02-8411 Filed 4-5-02; 8:45 am]

BILLING CODE 6717-01-P